DEPARTMENT OF COMMERCE

National Oceanic and Atmospheric Administration

RIN 0648-XA756

Marine Mammals; File No. 15537

AGENCY: National Marine Fisheries Service (NMFS), National Oceanic and Atmospheric Administration (NOAA), Commerce.

ACTION: Notice; issuance of permit amendment.

SUMMARY: Notice is hereby given that an amendment to Permit No. 15537 has been issued to Institute for Marine Mammal Studies (IMMS), P.O. Box 207, Gulfport, MS 39502 (Dr. Moby Solangi, Responsible Party).

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Amy Sloan, (301) 427-8401.

SUPPLEMENTARY INFORMATION: On June 30, 2015, notice was published in the Federal Register (80 FR 37235) that NMFS was considering an amendment to Permit No. 15337 in response to a court decision to remand this permit to NMFS for reconsideration. The requested permit amendment has been issued under the authority of the Marine Mammal Protection Act of 1972, as amended (16 U.S.C. 1361 et seq.), the regulations governing the taking and importing of marine mammals (50 CFR part 216).

Permit No. 15537 was issued on October 5, 2011 authorizing the acquisition of up to eight stranded, releasable California sea lions (Zalophus californianus) from the NMFS Marine Mammal Health and Stranding Response Program for the purposes of public display. After NMFS issued the permit, IMMS challenged the provisions of the permit in U.S. District Court. As described in the Court's opinion, the Court remanded the permit to NMFS for reconsideration. IMMS v. NMFS, No. 1:11CV318-LG-JMR (S.D.Miss. 2014). NMFS has amended the permit to remove Permit Condition B.3 and change Permit Condition B.2 to state the following:

Condition B.2.: This permit does not guarantee that the Permit Holder will be able to obtain any releasable sea lions from rehabilitation facilities, and does not require NMFS to direct or make arrangements for any rehabilitation facilities to provide the Permit Holder with releasable sea lions. Final decisions with respect to the use of rehabilitated marine mammals for public display purposes in lieu of take from the wild are at the ultimate discretion of the Office Director in accordance with 50 CFR 216.27(b)(4).

In addition, NMFS has extended the permit for one additional year, to expire on October 5, 2017.

In compliance with the National Environmental Policy Act of 1969 (NEPA; 42 U.S.C. 4321 et seq.), NMFS has determined that the activities proposed are consistent with those analyzed in the environmental assessment (EA) for issuance of Permit No. 15537, and no additional NEPA analysis is necessary as the minor changes in the proposed amendment will not change the effects to the human environment in a manner not previously considered. Based on the analyses in the EA, NMFS determined that the activities proposed would not significantly impact the quality of the human environment and that preparation of an environmental impact statement was not required. That determination is documented in a Finding of No Significant Impact.

Dated: May 19, 2016.
Julia Harrison,
Chief, Permits and Conservation Division, Office of Protected Resources, National Marine Fisheries Service.

[FR Doc. 2016-12287 Filed 5-24-16; 8:45 am]

BILLING CODE 3510-22-P